NUCLEAR REGULATORY COMMISSION

Revision of Management Directive for Review of 10 CFR 2.206 Petitions; Request for Comments

AGENCY: Nuclear Regulatory Commission.

ACTION: Request for comments.

SUMMARY: NRC Management Directive (MD) 8.11 describes the Nuclear Regulatory Commission's (NRC's) review process for 10 CFR 2.206 petitions. In a continuing effort to improve the review process, the NRC staff has developed process changes and a draft revision to MD 8.11. This notice invites public comment on the draft revision to MD 8.11.

DATES: The comment period ends September 1, 2000. Comments received after this date will be considered if it is practical to do so, but the staff is able to assure consideration only for those comments received on or before this date.

ADDRESSES: Mail written comments to David L. Meyer, Chief, Rules and Directives Branch, Division of Administrative Services, Office of Administration, U.S. Nuclear Regulatory Commission, Washington, DC 20555-0001. Comments may also be sent by completing the online comment form for MD 8.11 at http://www.nrc.gov/NRC/MD/index.html.

In addition, comments may be delivered to Room 6D59, Two White Flint North, 11555 Rockville Pike, Rockville, Maryland, between 7:30 a.m. and 4:15 p.m. Federal workdays. Copies of the draft revision to MD 8.11, the complete text of which follows this notice, are available for a fee at the NRC's Public Document Room, the Gelman Building, 2120 L Street, NW., Washington, DC. Publicly available records are accessible electronically from the ADAMS Public Library component on the NRC Web site, http://www.nrc.gov (the Electronic Reading Room). This notice and the draft revision to MD 8.11 are also available electronically on the Internet at http://www.nrc.gov/NRC/MD/index.html.

FOR FURTHER INFORMATION CONTACT: Herbert N. Berkow, Mail Stop O-8H12, Office of Nuclear Reactor Regulation, U.S. Nuclear Regulatory Commission, Washington, DC 20555-0001; telephone (301) 415-1485 and e-mail at hnb@nrc.gov.

SUPPLEMENTARY INFORMATION: The process changes to MD 8.11 were identified and developed based on the comments received from the NRC staff and members of the public. The staff requested public comments on the current revision of MD 8.11 in a Federal Register notice that was published on October 7, 1999 (64 FR 54654). The staff held public meetings on December 15, 1999, and February 10, 2000, to discuss potential process improvements. Based on the comments received, the staff developed three major process changes:

1. The review process, as revised in July 1999, offers petitioners an opportunity to meet with the staff's petition review board (PRB), either in person or by teleconference, before the initial PRB meeting. The purpose of this meeting is to allow the petitioner an opportunity to provide elaboration and clarification of the petition and any requests for immediate action. The staff is planning to provide an opportunity for petitioners to meet with the PRB after the PRB has discussed the petition, as well as before. The purpose of a meeting at this stage is to allow the petitioner to comment on the PRB's recommendations regarding whether (1) the petition meets the criteria for review under 10 CFR 2.206 and (2) any requested immediate actions will be granted. As is currently the case, the licensee would also be invited to participate.

2. The staff plans to eliminate the criteria in MD 8.11 that must be satisfied before a technical meeting can be offered during the staff's review of the petition.

3. The staff's response to a petition is a director's decision which may grant the petition, in whole or in part, or deny the petition. The staff plans to provide a copy of the proposed director's decision to the petitioner and the licensee for comments before it is issued in final form. The proposed director's decision would also be placed in the public document room. The intent of this new provision in the process is to allow the petitioner and the licensee an opportunity to review the proposed director's decision and identify any potential errors or issues that have not been addressed. The staff would then reconsider any affected portions of the proposed director's decision. Because the staff's disposition of the comments would be included in the director's decision, NRC management would have an opportunity to evaluate the staff's handling of the comments before the director's decision is formally issued.

In addition to these specific changes, the staff has completely rewritten MD 8.11 to improve the flow of the document and make it easier to use.

The Commission met with the staff and a public panel on May 25, 2000, to discuss the staff's planned process changes. As background for the meeting, the staff sent a memorandum to the Commission on May 4, 2000 (accession number ML003708647), outlining the history behind previous process changes and the basis for the new changes. In a staff requirements memorandum on June 20, 2000, the Commission stated that it supported the staff's plans to make changes to the review process for 10 CFR 2.206 petitions.

The NRC staff has developed the revision to MD 8.11, incorporating the changes described above, and requests comments on the revision. Management directives are internal NRC procedures which are not ordinarily published for public comment. However, MD 8.11 deals with a process that directly involves the public, and the NRC staff has determined that its efforts to improve the process will benefit from public participation. All comments received will be considered. The result of this effort will be reflected in a future revision of MD 8.11.

Dated at Rockville, Maryland, this 19th day of July 2000.
For the Nuclear Regulatory Commission.
Herbert N. Berkow,
Director, Project Directorate II, Division of Licensing Project Management, Office of Nuclear Reactor Regulation.

BILLING CODE 7590-01-P

[FR Doc. 00-18921 Filed 7-26-00; 8:45 am]

BILLING CODE 7590-01-C